DEPARTMENT OF JUSTICE

Antitrust Division

Notice Pursuant to the National Cooperative Research and Production Act of 1993— Automotive Cybersecurity Industry Consortium

Notice is hereby given that, on January 11, 2017, pursuant to Section 6(a) of the National Cooperative Research and Production Act of 1993, 15 U.S.C. 4301 et seq. (“the Act”), Automotive Cybersecurity Industry Consortium (“ACIC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: General Motors LLC, Detroit, MI; Ford Motor Company, Dearborn, MI; and Hyundai America Technical Center Inc., Superior Township, MI. The general area of ACIC's planned activity is collaboration to conduct or facilitate cooperative research, development, testing, and evaluation procedures to improve cyber security in automotive vehicles. ACIC's objectives are to promote the interests of the automotive sector in cyber security while maintaining impartiality, the independence of its members, and vendor neutrality.

Dated: February 17, 2017.
Patricia A. Brink,
Director of Civil Enforcement, Antitrust Division.

[FR Doc. 2017-03792 Filed 2-24-17; 8:45 am]

BILLING CODE P